FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011117-053.

Title: United States/Australasia Discussion Agreement.

Parties: ANL Singapore Pte Ltd.; CMA-CGM; Compagnie Maritime Marfret S.A.; Hamburg-Süd; Hapag-Lloyd AG; and Mediterranean Shipping Company S.A.

Filing Party: Wayne R. Rohde, Esq.; Cozen O'Connor; 1627 I Street NW., Suite 1100; Washington, DC 20006-4007.

Synopsis: The amendment would add Pacific International Lines (PTE) Ltd. as a party to the agreement.

Agreement No.: 012246.

Title: Eukor/Mitsui O.S.K. Lines, Ltd. Space Charter Agreement.

Parties: Eukor Car Carriers, Inc. and Mitsui O.S.K. Lines, Ltd.

Filing Party: Eric. C. Jeffrey, Esq.; Nixon Peabody LLP; 401 9th Street NW., Suite 900; Washington, DC 20004.

Synopsis: The agreement authorizes the parties to charter space to one another in the trade between Asia and the U.S.

Agreement No.: 012247.

Title: Hyundai Glovis/Hoegh Space Charter Agreement.

Parties: Hyundai Glovis Co. Ltd. and Hoegh Autoliners AS.

Filing Party: Wayne R. Rohde, Esq.; Cozen O'Connor; 1627 I Street NW., Suite 1100; Washington, DC 20006.

Synopsis: The agreement authorizes Hoegh to charter space to Hyundai Glovis in the trade from the Republic of Korea to the Atlantic Coast of the U.S.

Agreement No.: 201223.

Title: Lease and Operating Agreement between PRPA and Eco-Energy Distribution-Philadelphia, LLC.

Parties: Eco-Energy Distribution-Philadelphia, LLC and The Philadelphia Regional Port Authority (PRPA).

Filing Party: Paul D. Coleman, Esq.; Hoppel, Mayer & Coleman; Attorneys and Counsellors at Law; 1050 Connecticut Avenue NW., 10th Floor; Washington, DC 20036.

Synopsis: The agreement authorizes Eco-Energy to dock and moor barges, and to receive, distribute and load cargo at facilities operated under the agreement. The agreement also provides for the cargo to be transferred to, from, and between cargo barges, trucks, and railcars.

By Order of the Federal Maritime Commission.
Dated: February 12, 2014.
Karen V. Gregory,
Secretary.

[FR Doc. 2014-03535 Filed 2-18-14; 8:45 am]

BILLING CODE 6730-01-P